DEPARTMENT OF ENERGY

Federal Energy Regulatory Commission

[Docket No. RP02-361-014]

Gulfstream Natural Gas System, L.L.C.; Notice of Negotiated Rates

October 14, 2003.

Take notice that on October 3, 2003, Gulfstream Natural Gas System, L.L.C. (Gulfstream) tendered for filing as part of its FERC Gas Tariff, Original Volume No. 1, the following tariff sheets, reflecting an effective date of October 1, 2003:

Original Sheet No. 8L

Original Sheet No. 8M

Gulfstream states that this filing is being made to implement a negotiated rate transaction under Rate Schedule ITS pursuant to Section 31 of the General Terms and Conditions of Gulfstream's FERC Gas Tariff.

Gulfstream also states that the tariff sheets being filed herewith identify and describe the negotiated rate agreement, including the exact legal name of the relevant shipper, the negotiated rate, the rate schedule, the contract term, and the contract quantity. Gulfstream further states that the proposed tariff sheets include footnotes where necessary to provide further details on the agreement listed thereon.

Gulfstream states that copies of its filing have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. Docket No. RP02-361-014.

For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: October 15, 2003.

Magalie R. Salas,
Secretary.

[FR Doc. E3-00074 Filed 10-21-03; 8:45 am]

BILLING CODE 6717-01-P